DEPARTMENT OF ENERGY

Federal Energy Regulatory Commission

Combined Notice Of Filings #1

December 6, 2006.

Take notice that the Commission received the following electric corporate filings:

Docket Numbers: EC07-30-000.

Applicants: KGen Southaven LLC.

Description: Joint application of KGen Enterprise LLC, KGen Hinds LLC et al for authorization under section 203 of the Federal Power Act and Request for Waivers.

Filed Date: 11/30/2006.

Accession Number: 20061205-0137.

Comment Date: 5 p.m. Eastern Time on Thursday, December 21, 2006.

Docket Numbers: EC07-31-000.

Applicants: Puget Sound Energy, Inc.

Description: Goldendale Energy Center, LLC & Puget Sound Energy Inc submit a Joint Application for Authorization for Transfer of Jurisdictional Facilities, Acquisition of an Existing Generation Facility and Acquisition by a holding company.

Filed Date: 12/01/2006.

Accession Number: 20061205-0042.

Comment Date: 5 p.m. Eastern Time on Friday, December 22, 2006.

Take notice that the Commission received the following exempt wholesale generator filings:

Docket Numbers: EG07-18-000.

Applicants: NE Hydro Generating Company.

Description: NE Hydro Generating Co submits its Application for Determination of Exempt Wholesale Generator Status.

Filed Date: 12/01/2006.

Accession Number: 20061205-0002.

Comment Date: 5 p.m. Eastern Time on Friday, December 22, 2006.

Take notice that the Commission received the following electric rate filings:

Docket Numbers: ER02-783-006; ER06-1135-001; ER02-852-006; ER02-855-006; ER01-2262-008; ER03-438-006; ER05-723-005.

Applicants: EPCOR Merchant and Capital (US) Inc.; EPCOR Energy Marketing (US) Inc.; EPCOR Power Development, Inc; EPDC Inc; Frederickson Power L.P.; Manchief Power Company LLC; EPCOR Power (Castleton) LLC.

Description: EPCOR Public Utilities submit a notice of change in status report pursuant to Order 652.

Filed Date: 12/01/2006.

Accession Number: 20061205-0027.

Comment Date: 5 p.m. Eastern Time on Friday, December 22, 2006.

Docket Numbers: ER04-691-079.

Applicants: Midwest Independent Transmission System Operator, Inc.

Description: Midwest ISO submits its proposed revisions to its ISO Open Access Transmission and Energy Markets Tariff, FERC Electric Tariff Third Revised Volume No. 1.

Filed Date: 11/27/2006.

Accession Number: 20061130-0190.

Comment Date: 5 p.m. Eastern Time on Monday, December 18, 2006.

Docket Numbers: ER05-717-005; ER05-721-005; ER04-374-004; ER99-2341-007; ER06-230-002; ER06-1334-002.

Applicants: Spring Canyon Energy LLC; Judith Gap Energy LLC; Invenergy TN LLC; Hardee Power Partners Limited; Wolverine Creek Energy LLC; Spindle Hill Energy LLC.

Description: Spring Canyon Energy LLC, Judith Gap Energy LLC et al submit a notice re certain changes in the characteristics relied upon to grant market-based rate authority to the Companies.

Filed Date: 12/01/2006.

Accession Number: 20061205-0025.

Comment Date: 5 p.m. Eastern Time on Friday, December 22, 2006.

Docket Numbers: ER06-1444-001.

Applicants: Midwest Independent Transmission System Operator, Inc.

Description: Midwest ISO submits an unexecuted Amended and Restated Generator Interconnection Agreement with Consumers. Energy Co.

Filed Date: 11/29/2006.

Accession Number: 20061204-0109.

Comment Date: 5 p.m Eastern Time on Wednesday, December 20, 2006.

Docket Numbers: ER07-261-000.

Applicants: Tenaska-Oxy Power Services, L.P.

Description: Tenaska-Oxy Power Services, LP submits a notice of cancellation.

Filed Date: 11/30/2006.

Accession Number: 20061205-0005.

Comment Date: 5 p.m. Eastern Time on Thursday, December 21, 2006.

Docket Numbers: ER07-263-000.

Applicants: PacifiCorp.

Description: PacifiCorp submits cancellation of their FERC Electric Rate Schedule 543 with Bonneville Power Administration.

Filed Date: 11/30/2006.

Accession Number: 20061204-0058.

Comment Date: 5 p.m. Eastern Time on Thursday, December 21, 2006.

Docket Numbers: ER07-267-000.

Applicants: Kentucky Utilities Company.

Description: Kentucky Utilities Co's submits an amendment to a contract with the City of Barbourville, Kentucky, Rate Schedule 304.

Filed Date: 12/01/2006.

Accession Number: 20061205-0006.

Comment Date: 5 p.m. Eastern Time on Friday, December 22, 2006.

Docket Numbers: ER07-268-000.

Applicants: Kentucky Utilities Company.

Description: Kentucky Utilities Company submits an amendment to a contract (Rate Schedule 306) with the City of Madisonville, Kentucky.

Filed Date: 12/01/2006.

Accession Number: 20061205-0008.

Comment Date: 5 p.m. Eastern Time on Friday, December 22, 2006.

Docket Numbers: ER07-269-000.

Applicants: Kentucky Utilities Company.

Description: Kentucky Utilities Co submits an amendment to a contract with the City of Bardwell, Kentucky designated as Rate Schedule 307.

Filed Date: 12/01/2006.

Accession Number: 20061205-0007.

Comment Date: 5 p.m. Eastern Time on Friday, December 22, 2006.

Docket Numbers: ER07-270-000.

Applicants: Kentucky Utilities Company.

Description: Kentucky Utilities Company submits an amendment to the contract with the City of Paris, Kentucky Rate Schedule 301.

Filed Date: 12/01/2006.

Accession Number: 20061205-0009.

Comment Date: 5 p.m. Eastern Time on Friday, December 22, 2006.

Docket Numbers: ER07-271-000.

Applicants: Kentucky Utilities Company.

Description: Kentucky Utilities Co submits an amendment to a contract with the City of Providence, Kentucky, Rate Schedule 305.

Filed Date: 12/01/2006.

Accession Number: 20061205-0010.

Comment Date: 5 p.m. Eastern Time on Friday, December 22, 2006.

Docket Numbers: ER07-272-000.

Applicants: Southwest Power Pool, Inc.

Description: Southwest Power Pool, Inc submits an executed service agreement for Network Integration Transmission Service with Kansas Power Pool.

Filed Date: 12/01/2006.

Accession Number: 20061205-0011.

Comment Date: 5 p.m. Eastern Time on Friday, December 22, 2006.

Docket Numbers: ER07-273-000.

Applicants: Southwest Power Pool, Inc.

Description: Southwest Power Pool Inc submits an executed service agreement for Firm Point-to-Point Transmission Service with Kansas Power Pool.

Filed Date: 12/01/2006.

Accession Number: 20061205-0012.

Comment Date: 5 p.m. Eastern Time on Friday, December 22, 2006.

Docket Numbers: ER07-274-000.

Applicants: Juice Energy, Inc.

Description: Juice Energy Inc submits a Notice of Succession to reflect a name change on its market based rate tariff from HLM Energy Inc.

Filed Date: 12/01/2006.

Accession Number: 20061205-0013.

Comment Date: 5 p.m. Eastern Time on Friday, December 22, 2006.

Docket Numbers: ER07-275-000.

Applicants: Arizona Public Service Company.

Description: Arizona Public Service Company submits Notice of Cancellation of Interconnection and Operating Service Agreement 210 under APS' OATT pursuant to Order 614.

Filed Date: 12/01/2006.

Accession Number: 20061205-0015.

Comment Date: 5 p.m. Eastern Time on Friday, December 22, 2006.

Docket Numbers: ER07-276-000.

Applicants: New York Commercial Energy Buyers, LLC.

Description: New York Commercial Energy Buyers, LLC submits a Notice of Cancellation of their FERC Electric Tariff, Original Volume No. 1.

Filed Date: 12/01/2006.

Accession Number: 20061205-0016.

Comment Date: 5 p.m. Eastern Time on Friday, December 22, 2006.

Docket Numbers: ER07-277-000.

Applicants: Invenergy Cannon Falls LLC.

Description: Invenergy Cannon Falls, LLC submits application for authorization to make market-based wholesale sales of energy, capacity, and ancillary services and Invenergy FERC Electric Tariff No. 1.

Filed Date: 12/01/2006.

Accession Number: 20061205-0017.

Comment Date: 5 p.m. Eastern Time on Friday, December 22, 2006.

Docket Numbers: ER07-278-000.

Applicants: American Electric Power Service Corp.

Description: American Electric Power Service Corp as agent for Indiana Michigan Power Co submits a fourth revision to the Interconnection and Local Delivery Service Agreement 1262 with Wabash Valley Power Association.

Filed Date: 12/01/2006.

Accession Number: 20061205-0023.

Comment Date: 5 p.m. Eastern Time on Friday, December 22, 2006.

Docket Numbers: ER07-279-000.

Applicants: Kentucky Utilities Company.

Description: Kentucky Utilities Company submits amendment to their contract with City of Falmouth, Kentucky Rate Schedule 310.

Filed Date: 12/01/2006.

Accession Number: 20061205-0018.

Comment Date: 5 p.m. Eastern Time on Friday, December 22, 2006.

Docket Numbers: ER07-280-000.

Applicants: Kentucky Utilities Company.

Description: Kentucky Utilities Co submits amendments to their contract with City of Corbin, Kentucky Rate Schedule 309.

Filed Date: 12/01/2006.

Accession Number: 20061205-0019.

Comment Date: 5 p.m. Eastern Time on Friday, December 22, 2006.

Docket Numbers: ER07-282-000.

Applicants: Southwest Power Pool, Inc.

Description: Southwest Power Pool, Inc submits an executed service agreement for firm point-to-point transmission service with Kansas Power Pool.

Filed Date: 12/01/2006.

Accession Number: 20061205-0003.

Comment Date: 5 p.m. Eastern Time on Friday, December 22, 2006.

Docket Numbers: ER07-283-000.

Applicants: Southwest Power Pool, Inc.

Description: Southwest Power Pool, Inc submits an executed service agreement for Network Integration Transmission Service with Kansas Power Pool.

Filed Date: 12/01/2006.

Accession Number: 20061205-0021.

Comment Date: 5 p.m. Eastern Time on Friday, December 22, 2006.

Docket Numbers: ER07-285-000.

Applicants: New York Independent System Operator, Inc.

Description: New York Independent System Operator Inc submits revisions to its Market Administration and Control Area Service Tariff.

Filed Date: 12/01/2006.

Accession Number: 20061205-0020.

Comment Date: 5 p.m. Eastern Time on Friday, December 22, 2006.

Docket Numbers: ER07-287-000.

Applicants: Klondike Wind Power III LLC.

Description: MidAmerican Energy Company submits an amended Network Integration Transmission Service Agreement and an amended Interconnection and Network Operating Agreement w/Indianola Municipal Utilities.

Filed Date: 12/01/2006.

Accession Number: 20061205-0022.

Comment Date: 5 p.m. Eastern Time on Friday, December 22, 2006.

Docket Numbers: ER97-2846-011; ER99-2311-008; ER01-2928-010; ER01-1418-007; ER99-2324-004; ER01-1310-008; ER03-398-008.

Applicants: Florida Power Corporation; Carolina Power & Light Company; Progress Ventures, Inc.; Efffingham County Power, LLC; MPC Generating, LLC; Walton County Power, LLC; Washington County Power, LLC.

Description: Progress Energy, Inc on behalf of Florida Power Corp submits notice of change in status re the terminating agreement with Shady Hills Power Co, LLC etc pursuant to Order 652.

Filed Date: 12/01/2006.

Accession Number: 20061205-0026.

Comment Date: 5 p.m. Eastern Time on Friday, December 22, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-21100 Filed 12-11-06; 8:45 am]

BILLING CODE 6717-01-P